DEPARTMENT OF ENERGY

Federal Energy Regulatory Commission

Combined Notice of Filings

Take notice that the Commission has received the following Natural Gas Pipeline Rate and Refund Report filings:

Filings Instituting Proceedings

Docket Numbers: RP22-559-000.

Applicants: Chesapeake Energy Marketing, L.L.C., Continental Resources, Inc.

Description: Joint Petition For Temporary Waiver, et al. of Chesapeake Energy Marketing, L.L.C., et al.

Filed Date: 2/16/22.

Accession Number: 20220216-5106.

Comment Date: 5 p.m. ET 2/28/22.

Docket Numbers: RP22-560-000.

Applicants: Vector Pipeline L.P.

Description: Vector Pipeline L.P. submits Annual Report of Operational Purchases and Sales.

Filed Date: 2/16/22.

Accession Number: 20220216-5107.

Comment Date: 5 p.m. ET 2/28/22.

Docket Numbers: RP22-561-000.

Applicants: Rover Pipeline LLC.

Description: Compliance filing: Rover 2020 AMPS Filing to be effective N/A.

Filed Date: 2/16/22.

Accession Number: 20220216-5196.

Comment Date: 5 p.m. ET 2/28/22.

Docket Numbers: RP22-562-000.

Applicants: Rover Pipeline LLC.

Description: Compliance filing: Rover 2021 AMPS Filing to be effective N/A.

Filed Date: 2/16/22.

Accession Number: 20220216-5199.

Comment Date: 5 p.m. ET 2/28/22.

Docket Numbers: RP22-563-000.

Applicants: Midcontinent Express Pipeline LLC.

Description: § 4(d) Rate Filing: Removal of Expiring Targa Agreement to be effective 4/1/2022.

Filed Date: 2/17/22.

Accession Number: 20220217-5014.

Comment Date: 5 p.m. ET 3/1/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP21-1001-005.

Applicants: Texas Eastern Transmission, LP.

Description: Compliance filing: TETLP Rate Case Compliance Filing with EPC 2-2022—RP21-1001-000 to be effective 2/1/2022.

Filed Date: 2/16/22.

Accession Number: 20220216-5163.

Comment Date: 5 p.m. ET 2/23/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 17, 2022.
Debbie-Anne A. Reese,
Deputy Secretary.

[FR Doc. 2022-03913 Filed 2-23-22; 8:45 am]

BILLING CODE 6717-01-P